DEPARTMENT OF TRANSPORTATION

Office of the Secretary

14 CFR Parts 201, 204, 205, 211, 212, 213, 217, 241, 243, 291, 298, 325, 330, 331, and 382

49 CFR Parts 1, 7, 10, 24, 26, 31, 37, and 40

[Docket DOT-OST-2008-0173]

RIN 2105-AD74

OST Technical Corrections

AGENCY: Office of the Secretary (OST), Department of Transportation (DOT).

ACTION: Final rule.

SUMMARY: DOT is amending a number of its regulations to reflect reorganization of some elements of DOT and the move of DOT's Headquarters site in Washington, DC. This action is taken on DOT's initiative.

DATES: Effective Date June 12, 2008.

FOR FURTHER INFORMATION CONTACT: Robert I. Ross, Office of the General Counsel, C-60, Room W96-314, Department of Transportation, 1200 New Jersey Avenue, SE., Washington, DC 20590; telephone 202.366.9156; telecopier 202.366.9170; e-mail: bob.ross@dot.gov, or Joanne Petrie, Office of the General Counsel, C-50, Department of Transportation, 1200 New Jersey Avenue, SE., Washington, DC 20590; telephone 202.366.9315; telecopier 202.366.9313; e-mail: joanne.petrie@dot.gov.

SUPPLEMENTARY INFORMATION: Since its organizational, Freedom of Information Act (FOIA), and Privacy Act regulations were last revised, DOT has undergone a number of changes that make some parts of those regulations incorrect:

1. Establishment of the Department of Homeland Security (DHS) moved the United States Coast Guard and the Transportation Security Administration from DOT to DHS.

2. Pursuant to the Federal Motor Carrier Safety Act and the Norman Mineta Research and Innovative Technology Act, certain elements of DOT were reorganized.

3. DOT moved its Headquarters in Washington, DC to a new site.

4. A minor reorganization in the Office of the DOT General Counsel transferred oversight responsibility for FOIA to a new division.

5. The Chief Information Officer has replaced the Assistant Secretary for Administration as the DOT Chief Privacy Officer.

This publication makes corrections to the OST regulations to reflect these organizational and functional changes. In addition, it corrects the DOT headquarters address throughout OST's regulations.

Since this amendment relates to departmental management, organization, procedure, and practice, notice and comment are unnecessary under 5 U.S.C. 553(b). Further, since the amendment merely makes technical corrections and updates, I find good cause under 5 U.S.C. 553(d)(3) for the final rule to be effective on the date of publication in the Federal Register.

Regulatory Analyses and Notices

A. Executive Order 12866 and DOT Regulatory Policies and Procedures

The final rule is not considered a significant regulatory action under Executive Order 12866 and DOT Regulatory Policies and Procedures (44 FR 11034). It was not reviewed by the Office of Management and Budget. There are no costs associated with this rule.

B. Executive Order 13132

This final rule has been analyzed in accordance with the principles and criteria contained in Executive Order 13132 (“Federalism”). This final rule does not have a substantial direct effect on, or sufficient federalism implications for, the States, nor would it limit the policymaking discretion of the States. Therefore, the consultation requirements of Executive Order 13132 do not apply.

C. Executive Order 13175

This final rule has been analyzed in accordance with the principles and criteria contained in Executive Order 13175 (“Consultation and Coordination with Indian Tribal Governments”). Because this final rule does not significantly or uniquely affect the communities of the Indian tribal governments and does not impose substantial direct compliance costs, the funding and consultation requirements of Executive Order 13175 do not apply.

D. Regulatory Flexibility Act

Because no notice of proposed rulemaking is required for this rule under the Administrative Procedure Act, 5 U.S.C. 553, the provisions of the Regulatory Flexibility Act (5 U.S.C. 601 et seq.) do not apply. We also do not believe this rule would impose any costs on small entities because it simply delegates authority from one official to another and makes other nonsubstantive corrections. Therefore, I certify this final rule will not have a significant economic impact on a substantial number of small entities.

E. Paperwork Reduction Act

This rule contains no information collection requirements under the Paperwork Reduction Act of 1995 (44 U.S.C. 3501-3520).

F. Unfunded Mandates Reform Act

The Department of Transportation has determined that the requirements of Title II of the Unfunded Mandates Reform Act of 1995 do not apply to this rulemaking.

List of Subjects

14 CFR Part 201

Air carriers, Reporting and recordkeeping requirements.

14 CFR Part 204

Air carriers, Reporting and recordkeeping requirements.

14 CFR Part 205

Air carriers, Freight, Insurance, Reporting and recordkeeping requirements.

14 CFR Part 211

Administrative practice and procedure, Air carriers, Pacific Islands Trust Territory, Reporting and recordkeeping requirements.

14 CFR Part 212

Charter flights, Confidential business information, Reporting and recordkeeping requirements, Surety bonds.

14 CFR Part 213

Air carriers, Reporting and recordkeeping requirements.

14 CFR Part 217

Air carriers, Reporting and recordkeeping requirements.

14 CFR Part 241

Air carriers, Reporting and recordkeeping requirements, Uniform System of Accounts.

14 CFR Part 243

Air carriers, Aircraft, Charter flights, Reporting and recordkeeping requirements.

14 CFR Part 291

Administrative practice and procedure, Air carriers, Freight, Reporting and recordkeeping requirements.

14 CFR Part 298

Air taxis, Reporting and recordkeeping requirements.

14 CFR Part 325

Administrative practice and procedure, Air transportation, Intergovernmental relations, Reporting and recordkeeping requirements.

14 CFR Part 330

Administrative practice and procedure, Air carriers, Grant programs-transportation, Reporting and recordkeeping requirements.

14 CFR Part 331

Air Carriers. Reporting and recordkeeping requirements.

14 CFR Part 382

Air carriers, Civil rights, Individuals with disabilities, Reporting and recordkeeping requirements.

49 CFR Part 1

Authority delegations (Government agencies), Organization and functions (Government agencies).

49 CFR Part 7

Freedom of information, Reporting and recordkeeping requirements.

49 CFR Part 10

Penalties, Privacy.

49 CFR Part 24

Administrative practice and procedure, Grant programs, Loan programs, Manufactured homes, Real property acquisition, Relocation assistance, Reporting and recordkeeping requirements.

49 CFR Part 26

Administrative practice and procedure, Reporting and recordkeeping requirements, Transportation.

49 CFR Part 31

Administrative practice and procedure, Claims, Fraud, Penalties.

49 CFR Part 37

Buildings and facilities, Buses, Civil rights, Individuals with disabilities, Mass transportation, Railroads, Reporting and recordkeeping requirements, Transportation.

49 CFR Part 40

Administrative practice and procedure, Drug testing, Laboratories, Reporting and recordkeeping requirements, Safety, Transportation.

Accordingly, under the authority of 49 U.S.C. 322(a), the Department of Transportation amends 14 CFR chapter 2 and 49 CFR chapter 1 as follows:

TITLE 14—AERONAUTICS AND SPACE

§ 201.1, 204.7, 205.4, 211.10, 212.10, 213.7, 217.10, 217.10 App., 241.1, 241.2, 241.19, 243.13, 291.42, 291.45, 291.45 App, 298.4, 298.50, 298.60, 298.61, 298.61 App., 325.11, 330.23, 331.25, 382.65 and 382.70 [Amended]

1. In Title 14, Chapter II, Parts 200-399, remove text specified in the “Remove” column and add in its place the text in the “Add” column in the sections indicated below:

Section | Remove | Add
201.1(b) | PL-401, 400 7th Street, SW | 1200 New Jersey Avenue, SE.
204.7(b) | 400 Seventh Street, SW | 1200 New Jersey Avenue, SE.
205.4(c) | 400 7th Street, SW | 1200 New Jersey Avenue, SE.
211.10(b) | 400 Seventh Street, SW | 1200 New Jersey Avenue, SE.
212.10(a) | 400 7th Street, SW | 1200 New Jersey Avenue, SE.
213.7 | 400 Seventh Street, SW | 1200 New Jersey Avenue, SE.
217.10(b) | Room 4125. |
217.10(b) | 400 Seventh Street, SW | 1200 New Jersey Avenue, SE.
217.10 App (a)(3) | Room 4125. |
217.10 App (a)(3) | 400 Seventh Street, SW | 1200 New Jersey Avenue, SE.
Part 241, Sec.1-8 | Room 4125. |
Part 241, Sec.1-8 | 400 Seventh Street, SW | 1200 New Jersey Avenue, SE.
Part 241, Sec. 2-1(c) | Room 4125. |
Part 241, Sec. 2-1(c) | 400 7th Street, SW | 1200 New Jersey Avenue, SE.
Part 241, Sec. 19-7(a) | Room 4125. |
Part 241, Sec. 19-7(a) | 400 Seventh Street, SW | 1200 New Jersey Avenue, SE.
Part 241, Appendix A to Sec. 19-7 introductory text | Room 4125. |
Part 241, Appendix A to Sec. 19-7 introductory text | 400 Seventh Street, SW | 1200 New Jersey Avenue, SE.
Part 241, Sec. 25 Schedule T-100(f) Paragraph (b) | Room 4125. |
Part 241, Sec. 25 Schedule T-100(f) Paragraph (b) | 400 Seventh Street, SW | 1200 New Jersey Avenue, SE.
Part 241, Sec. 25, App. (e) | Room 4125. |
Part 241, Sec. 25, App. (e) | 400 Seventh Street, SW | 1200 New Jersey Avenue, SE.
243.13(c) | PL-401, 400 Seventh Street, SW | 1200 New Jersey Avenue, SE.
291.42(a)(2) | Room 4125. |
291.42(a)(2) | 400 Seventh Street, SW | 1200 New Jersey Avenue, SE.
291.45(e)(2) | Room 4125. |
291.45(e)(2) | 400 Seventh Street, SW | 1200 New Jersey Avenue, SE.
291.45, App. (c) | Room 4125. |
291.45, App. (c) | 400 Seventh Street, SW | 1200 New Jersey Avenue, SE.
298.4 | 400 7th Street, SW | 1200 New Jersey Avenue, SE.
298.50(b) | 400 7th Street, SW., PL-401 | 1200 New Jersey Avenue, SE.
298.60(c) | Room 4125. |
298.60(c) | 400 Seventh Street, SW | 1200 New Jersey Avenue, SE.
298.61(e)(2) | Room 4125. |
298.61(e)(2) | 400 Seventh Street, SW | 1200 New Jersey Avenue, SE.
298.61 App. (e) | Room 4125. |
298.61 App. (e) | 400 Seventh Street, SW | 1200 New Jersey Avenue, SE.
325.11 introductory text | 400 Seventh Street, SW | 1200 New Jersey Avenue, SE.
330.23(a) | 400 7th Street, SW., Room 6401 | 1200 New Jersey Avenue, SE.
331.25(a) | Room 6401, 400 7th Street, SW. |
382.65(c) | 400 7th Street, SW | 1200 New Jersey Avenue, SE.
382.70(h) | 400 7th Street, SW., Room 4107 | 1200 New Jersey Avenue, SE.

TITLE 49—TRANSPORTATION

PART 1—ORGANIZATION AND DELEGATION OF POWERS AND DUTIES.

2. The authority citation for part 1 continues to read as follows:

Authority: 49 U.S.C. 322; 28 U.S.C. 2672; 31 U.S.C. 3711(a)(2); Public Law 101-552, 104 Stat. 2736; Public Law 106-159, 113 Stat. 1748; Public Law 107-71, 115 Stat. 597; Public Law 107-295, 116 Stat. 2064; Public Law 107-295, 116 Stat 2065; Public Law 107-296, 116 Stat. 2135; 41 U.S.C. 414; Public Law 108-426, 118 Stat. 2423; Public Law 109-59, 119 Stat. 1144; Public Law 110-140, 121 Stat. 1492.

3. The heading of § 1.57b is revised to read as follows:

§ 1.57b Delegations to the Assistant General Counsel for Operations.

* * * * *

PART 7—PUBLIC AVAILABILITY OF INFORMATION

4. The authority citation for part 7 continues to read as follows:

Authority: 5 U.S.C. 552; 31 U.S.C. 9701; 49 U.S.C. 322; E.O. 12600; 3 CFR, 1987 Comp., p. 235.

5. In § 7.2, the definitions of ‘Department’ and ‘Primary Electronic Access Facility’ are revised to read as follows:

§ 7.2 Definitions.

* * * * *

Department means the Department of Transportation, including the Office of the Secretary, the Office of Inspector General, and the following DOT components, all of which may be referred to as DOT components. Means of contacting each of these DOT components appear in § 7.15. This definition specifically excludes the Surface Transportation Board, which has its own FOIA regulations (49 CFR Part 1001):

(1) Federal Aviation Administration,

(2) Federal Highway Administration,

(3) Federal Motor Carrier Safety Administration,

(4) Federal Railroad Administration,

(5) National Highway Traffic Safety Administration,

(6) Federal Transit Administration,

(7) Saint Lawrence Seaway Development Corporation,

(8) Maritime Administration,

(9) Pipeline and Hazardous Materials Safety Administration, and

(10) Research and Innovative Technology Administration.

Primary Electronic Access Facility means the electronic docket facility in the DOT Headquarters Building, 1200 New Jersey Avenue, SE., Washington, DC 20590.

* * * * *

6. Section 7.10 is revised to read as follows:

§ 7.10 Public records.

Publicly available records are located in DOT's Primary Electronic Access Facility at 1200 New Jersey Avenue, SE., Washington, DC 20590.

(a) The Primary Electronic Access Facility maintains materials for the Office of the Secretary, including former Civil Aeronautics Board material, and materials for the DOT components. This facility is located at Room W94-128, and the hours of operation are 10:00-17:00 eastern time.

(b) Certain DOT components also maintain public record units at regional offices. These facilities are open to the public Monday through Friday except Federal holidays, during regular working hours. The Saint Lawrence Seaway Development Corporation has facilities at 180 Andrews Street, Massena, New York 13662-0520.

(c) Operating Administrations may have separate facilities for manual records. Additional information on the location and hours of operations for inspection facilities can be obtained through DOT's Primary Electronic Access Facility, at (202) 366-9322.

7. In § 7.15, paragraph (a) is revised to read as follows:

§ 7.15 Contacts for records requested under the FOIA.

* * * * *

(a) FOIA Offices at 1200 New Jersey Avenue, SE., Washington, DC 20590:

(1) Office of the Secretary of Transportation, Room W94-122.

(2) Office of Inspector General, Room W73-407.

(3) Federal Highway Administration, Room E64-302.

(4) Federal Motor Carrier Safety Administration, Room W66-458.

(5) Federal Railroad Administration, Room W33-437.

(6) Federal Transit Administration, Room E42-315.

(7) National Highway Traffic Safety Administration, Room W41-311.

(8) Pipeline and Hazardous Materials Safety Administration, Room E26-109.

(9) Research and Innovative Technology Administration, Room E35-330.

(10) Maritime Administration, Room W24-233.

* * * * *

8. In § 7.41, paragraphs (b) and (c) are revised to read as follows:

§ 7.41 General.

* * * * *

(b) All terms defined by FOIA apply to this subpart, and the term “hourly rate” means the actual hourly base pay for a civilian employee.

(c) This subpart applies to all employees of DOT, including those of non-appropriated fund activities of the Maritime Administration.

* * * * *

9. In § 7.44, paragraphs (g) and (h) are revised to read as follows:

§ 7.44 Services performed without charge or at a reduced charge.

* * * * *

(g) Documents will be furnished without charge or at a reduced charge if the official having initial denial authority determines that the request concerns records related to the death of an immediate family member who was, at the time of death, a DOT employee.

(h) Documents will be furnished without charge or at a reduced charge if the official having initial denial authority determines that the request is by the victim of a crime who seeks the record of the trial at which the requestor testified.

PART 10—MAINTENANCE OF AND ACCESS TO RECORDS PERTAINING TO INDIVIDUALS

10. The authority citation for part 10 continues to read as follows:

Authority: 5 U.S.C. 552a; 49 U.S.C. 322.

11. In § 10.5, the definition of ‘Department' is revised to read as follows:

§ 10.5 Definitions.

* * * * *

Department means the Department of Transportation, including the Office of the Secretary, the Office of Inspector General, and the following operating administrations: This definition specifically excludes the Surface Transportation Board, which has its own Privacy Act regulations (49 CFR Part 1007), except to the extent that any system of records notice provides otherwise.

(1) Federal Aviation Administration.

(2) Federal Highway Administration.

(3) Federal Motor Carrier Safety Administration.

(4) Federal Railroad Administration.

(5) Federal Transit Administration.

(6) National Highway Traffic Safety Administration.

(7) St. Lawrence Seaway Development Corporation.

(8) Pipeline and Hazardous Materials Safety Administration.

(9) Research and Innovative Technology Administration.

(10) Maritime Administration.

* * * * *

12. The first sentence of § 10.11 is revised to read as follows:

§ 10.11 Administration of part.

Authority to administer this part in connection with the records of the Office of the Secretary is delegated to the Chief Information Officer.

* * * * *

13. Section 10.13 is revised to read as follows:

§ 10.13 Privacy Officer.

(a) To assist with implementation, evaluation, and administration issues, the Chief Information Officer appoints a principal coordinating official with the title Privacy Officer, and one Privacy Act Coordinator from his/her staff.

(b) Inquiries concerning Privacy Act matters, or requests for assistance, may be addressed to the Privacy Act Officer (S-80), Department of Transportation, 1200 New Jersey Avenue, SE., Washington, DC 20590.

(c) Administrators may designate Privacy Officers or Coordinators to act as central coordinators within their administrations to assist them in administering the Act.

14. In § 10.61, the introductory text of paragraph (a) is revised to read as follows:

§ 10.61 General exemptions.

(a) The Assistant Secretary for Administration, with regard to the Investigations Division; and the Federal Aviation Administrator, with regard to the FAA's Investigative Record System (DOT/FAA 815) may exempt from any part of the Act and this part except subsections (b), (c)(1) and (2), (e)(4)(A) through (F), (e)(6), (7), (9), (10), and (11), and (i) of the Act, and implementing §§ 10.35, 10.23(a) and (b), 10.21(d)(1) through (6), 10.81, 10.83, and 10.85 of this chapter, any systems of records, or portions thereof, which they maintain which consist wholly of;

* * * * *

15. In § 10.63, the introductory text is revised to read as follows:

§ 10.63 Specific exemptions.

The Secretary or his or her delegee, in the case of the Office of the Secretary; or the Administrator or his or delegee, in the case of an operating administration; or the Inspector General or his or her delegee, in the case of the Office of Inspector General, may exempt any system of records that is maintained by the Office of the Secretary, an operating administration, or the Office of Inspector General, as the case may be, from subsections (c)(3), (d), (e)(1), (e)(4)(G), (H), and (I), and (f) of the Act and implementing §§ 10.23(c); 10.35(b); 10.41; 10.43; 10.45; 10.21(a) and 10.21(d)(6), (7), and (8) of this chapter, under the following conditions:

§ 10.77 [Amended]

16. In § 10.77, paragraph (c) is amended by removing ‘Chief Information Officer’ and adding in its place ‘Assistant Secretary for Administration' wherever it appears.

17. The Appendix to Part 10 is amended as follows:

a. Part I is amended by removing paragraphs C, D, and F, and redesignating paragraph E as C;

b. Paragraph A of Part II is amended by removing paragraphs 4 through 9, paragraph 11, and paragraphs 13 through 16, redesignating paragraph 3 as paragraph 4, redesignating paragraph 10 as paragraph 5, redesignating paragraph 15 as paragraph 6, and redesignating paragraphs 17 and 18 as paragraphs 7 and 8;

c. Paragraph D of Part II is amended by removing paragraphs 2 through 9 and paragraph 11, redesignating paragraph 10 as paragraph 2, and redesignating paragraph 12 as paragraph 3;

d. Paragraph E of Part II is amended by removing paragraphs 1 through 3, and redesignating paragraph 4 as paragraph 1; and

e. Paragraph F of Part II is amended by removing paragraph 4.

§§ 24.602, 26.89, 31.26, 37.21324, App. B, 40.7, 40.33, 40.121, 40.213, 40.281, and 40 App. D. [Amended]

18. In the table below, remove the text indicated in the “Remove” column and add in its place the text indicated in the “Add” column:

Section | Remove | Add
24.602 | 400 Seventh Street, SW | 1200 New Jersey Avenue, SE.
24, App. B | Room 3221, 400 7th Street SW | 1200 New Jersey Avenue, SE.
26.89(a)(3) | 400 7th Street, SW., Room 5414 | 1200 New Jersey Avenue, SE.
31.26(a) | Docket Clerk, Documentary Services Division (C-55), room 4107, Department of Transportation, 400 7th Street, SW | Docket Operation Services, Department of Transportation, 1200 New Jersey Avenue, SE.
37.213(e) | 400 7th Street, SW | 1200 New Jersey Avenue, SE.
40.7(a) | 400 7th Street, SW., Room 10424 | 1200 New Jersey Avenue, SE.
40.33(a) | 400 7th Street, SW., Room 10403 | 1200 New Jersey Avenue, SE.
40.121(b)(3) | 400 7th Street, SW., Room 10403 | 1200 New Jersey Avenue, SE.
40.213(b)(1) | 400 7th Street, SW., Room 10403 | 1200 New Jersey Avenue, SE.
40.281(b)(3) | 400 7th Street, SW., Room 10403 | 1200 New Jersey Avenue, SE.
40, App. D | 400 7th Street, SW., Room 10403 | 1200 New Jersey Avenue, SE.

Issued in Washington, DC under authority delegated in 49 CFR 1.57(j) on May 21, 2008.
D.J. Gribbin,
General Counsel, Department of Transportation.

[FR Doc. E8-12108 Filed 6-11-08; 8:45 am]

BILLING CODE 4910-62-P